DEPARTMENT OF LABOR

Employment and Training Administration

[TA-W-40,609, TA-W-40,609A, TA-W-40,609B, TA-W-40,609C, and TA-W-40,609D]

Leybold Vacuum USA, Inc.; Export, Pennsylvania, Tempe, Arizona, Milwaukee, Oregon, Austin, Texas, San Jose, California; Amended Certification Regarding Eligibility to Apply for Worker Adjustment Assistance

In accordance with Section 223 of the Trade Act of 1974 (19 U.S.C. 2273) the Department of Labor issued a Certification of Eligibility to Apply for Worker Adjustment Assistance on June 12, 2002, applicable to workers of Leybold Vacuum USA, Inc., Export, Pennsylvania. The notice was published in the Federal Register on June 24, 2002 (67 FR 42583).

At the request of the petitioners, the Department reviewed the certification for workers of the subject firm. New information shows that worker separations occurred at the Tempe, Arizona, Milwaukee, Oregon, Austin, Texas and San Jose, California locations of Leybold Vacuum USA, Inc. These employees provided sales and direct field support services supporting the production of dry vacuum pumps and other pumps at the Export, Pennsylvania location of the subject firm.

Based on these findings, the Department is amending this certification to include employees of the Tempe, Arizona, Milwaukee, Oregon, Austin, Texas and San Jose, California facilities of Leybold Vacuum USA, Inc.

The intent of the Department's certification is to include all workers of Leybold Vacuum USA, Inc. who were adversely affected by increased imports.

The amended notice applicable to TA-W-40,609 is hereby issued as follows:

All workers of Leybold Vacuum USA, Inc., Export, Pennsylvania (TA-W-40,609), Tempe, Arizona, (TA-W-40,609A), Milwaukee, Oregon (TA-W-40,609B), Austin, Texas (TA-W-40,609C) and San Jose, California (TA-W-40,609D) who became totally or partially separated from employment on or after December 7, 2000, through June 12, 2004, are eligible to apply for adjustment assistance under Section 223 of the Trade Act of 1974.

Signed at Washington, DC this 15th day of August, 2002.
Edward A. Tomchick,
Director, Division of Trade Adjustment Assistance.

[FR Doc. 02-21333 Filed 8-20-02; 8:45 am]

BILLING CODE 4510-30-P